DEPARTMENT OF DEFENSE

Department of the Army, Corps of Engineers

Notice of Intent To Prepare an Environmental Impact Statement for the Denver Urban Waterways Restoration Study, South Platte River and Tributaries, Denver County, CO

AGENCY: Department of the Army, U.S. Army Corps of Engineers, DoD.

ACTION: Notice of intent.

SUMMARY: Pursuant to section 102(2)(C) of the National Environmental Policy Act (NEPA) of 1969, as amended, and the Council on Environmental Quality's (CEQ) regulations for implementing the procedural provisions of NEPA, the U.S. Army Corps of Engineers (USACE), Omaha District, intends to prepare a feasibility study with integrated environmental impact statement (EIS) that analyzes and discloses effects associated with actions to provide ecosystem restoration along the South Platte River and flood risk management actions along two South Platte River tributaries (Harvard Gulch and Weir Gulch).

DATES: Submit written comments on the scope of the issues and alternatives to be considered in the EIS on or before February 19, 2016.

ADDRESSES: Send written scoping comments, requests to be added to the mailing list, or requests for sign language interpretation for the hearing impaired or other special assistance needs to Ms. Tiffany Vanosdall by telephone: (402) 995-2695, by mail: 1616 Capitol Avenue, Omaha, NE 68102-4901, or by email: tiffany.k.vanosdall@usace.army.mil.

FOR FURTHER INFORMATION CONTACT: For further information and/or questions about the proposed feasibility study with integrated EIS, please contact Mr. Luke Wallace by telephone: (402) 995-2692, by mail: 1616 Capitol Avenue, Omaha, NE 68102-4901, or by email: a.luke.wallace@usace.army.mil. For inquiries from the media, please contact the USACE Omaha District Public Affairs Officer, Mr. Tom O'Hara by telephone: (402) 995-2416, by mail: 1616 Capitol Avenue, Omaha, NE 68102-4901, or by email: thomas.a.ohara@usace.army.mil.

SUPPLEMENTARY INFORMATION: USACE is issuing this notice pursuant to the National Environmental Policy Act of 1969, as amended, 42 U.S.C. 4321 et seq.

Public Meetings: Public scoping meetings for the various study reaches will be held from 5:30-7:30 p.m. MDT at the following locations:

• Harvard Gulch: Wednesday, January 13, 2016—Harvard Gulch Recreation Center, 550 East Iliff Avenue, Denver, CO 80210.

• South Platte River: Wednesday, January 20, 2016—REI, 1416 Platte Street, Denver, CO 80202.

• Weir Gulch: Tuesday, February 2, 2016—Barnum Recreation Center, 360 Hooker Street, Denver, CO 80219.

Background Information

The Unified City and County of Denver and the U.S. Army Corps of Engineers, Omaha District (Corps) are conducting a feasibility study for ecosystem restoration along the South Platte River and flood risk management along two of its tributaries, Weir Gulch and Harvard Gulch, in the City and County of Denver. The ecosystem portion of the study will optimize federally significant resources including habitat for migratory birds, wetlands and riparian habitat, and aquatic resources of the South Platte River and its tributaries. The geographic scope of the study area includes the South Platte River from 6th Avenue to 58th Avenue, Weir Gulch from Sheridan Boulevard east to the confluence with the South Platte River, and Harvard Gulch from Colorado Boulevard west to the confluence with the South Platte River.

The purpose of the project along the South Platte River is to address loss of riparian, wetland and in-channel habitat associated with urban development. There is a need to provide a functioning habitat corridor through Denver for migratory birds, as well as wetland and aquatic species. The purpose of the project along the Harvard Gulch and Weir Gulch tributaries to the South Platte River is to address flood risk issues in order to reduce flood and life safety risks along each stream. Urban development within the floodplain in both gulches consists of approximately 1,180 structures and an associated 9,150 people at risk of flooding. The report will be a final response to the study authority.

The City and County of Denver covers approximately 153 square miles which is only 0.15 percent of the State's area, but is densely populated with approximately 12 percent of the State's population; the total metropolitan area population (2.4 million) is approximately 50 percent of the State's population. Population growth has been rapid.

Denver County lies approximately 10 miles east of the Front Range of the Rocky Mountains. This heavily influences the County's weather. Denver has a semi-arid climate with all four seasons discernible. Average annual precipitation is 16 inches. The natural land cover is primarily short-grass prairie and semi-desert.

For approximately 10 river miles the South Platte River flows north through Denver. Its tributaries in Denver include Cherry Creek, smaller Bear Creek, and still smaller Weir Gulch, Lakewood Gulch, Sanderson Gulch, Harvard Gulch, and West Harvard Gulch.

The Harvard Gulch watershed is an east bank tributary to the South Platte River located in southeast Denver. The 7.43-square mile drainage basin is 72.5 percent within the City and County of Denver and 27.5 percent in Arapahoe County. The major drainage way has a perennial base flow and follows a path along Harvard Avenue until reaching Logan Street where it is conveyed underground in Wesley Avenue to the outfall at the South Platte River.

The Weir Gulch watershed is a west bank tributary to the South Platte River in Denver and has a drainage area of approximately 7.7 square miles at the confluence with the South Platte River.

As required by CEQ's implementing regulations, all reasonable alternatives to the proposed Federal action that meet the purpose and need will be considered in the EIS. These alternatives will include no action and a range of reasonable alternatives for improving the South Platte ecosystem and reducing flood risk on Harvard and Weir Gulch. Appropriate mitigation measures will be incorporated into the proposed action and reasonable alternatives. The EIS will analyze and disclose environmental impacts associated with the proposed Federal action and alternatives together with engineering, operations and maintenance, social, and economic considerations. The public is invited and encouraged to identify issues and effects they believe should be addressed in the EIS and reasonable alternatives for ecosystem restoration along the South Platte River and flood risk management along Harvard Gulch and Weir Gulch.

Public Disclosure Statement

The Corps believes it is important to inform the public of the environmental review process. To assist the Corps in identifying and considering issues related to the proposed Federal action, comments made during formal scoping and later on the draft EIS should be as specific as possible. Reviewers must structure their participation in the environmental review of the proposal so that it is meaningful and alerts the Corps to the reviewers' position and contentions. It is very important that those interested in this proposed Federal action participate by the close of the scoping period so that substantive comments and objections are made available to the Corps at a time when they can meaningfully consider and respond to them.

If you wish to comment, you can mail or email your comments as indicated under the Addresses section. Before including your name, address, phone number, email address, or any other personal identifying information in your comment, you should be aware that your entire comment including your personal identifying information may be made available to the public at any time.

While you can request in your comment for us to withhold your personal identifying information from public review, we cannot guarantee that we will be able to do so.

Brenda S. Bowen,
Army Federal Register Liaison Officer.

[FR Doc. 2016-00204 Filed 1-8-16; 8:45 am]

BILLING CODE 3720-58-P